SMALL BUSINESS ADMINISTRATION

National Small Business Development Center Advisory Board, Public Meeting

The U.S. Small Business Administration National Small Business Development Center Advisory Board will hold a public meeting on Sunday, June 17, 2001, from 9:00 a.m. to 5:00 p.m. PST. at the Doubletree Hotel Seattle Airport, Seattle, Washington, Cascade Room 1 to discuss such matters as may be presented by members, staff of the U.S. Small Business Administration or others present. Anyone wishing to make an oral presentation to the Board must contact Ellen Thrasher, in writing by letter or fax no later than June 6, 2001 in order to be included on the agenda. For further information, please write or call Ellen Thrasher, Designated Federal Officer U. S. Small Business Administration, 409 Third Street, SW, Fourth Floor, Washington, DC 20416. Telephone number (202) 205-6817, FAX (202) 205-7727.

Nancyellen Gentile,
Committee Management Officer.

[FR Doc. 01-14095 Filed 6-4-01; 8:45 am]

BILLING CODE 8025-01-U